DEPARTMENT OF ENERGY

Federal Energy Regulatory Commission

[Docket Nos. ER06-218-000 and ER06-219-000]

Liberty Power New York LLC and Liberty Power District of Columbia LLC; Notice of Issuance of Order

December 16, 2005.

Liberty Power New York LLC (Liberty Power New York) and Liberty Power District of Columbia LLC (Liberty Power District) filed application for market-based rate authority, with accompanying rate tariffs. The proposed rate tariffs provide for the sales of capacity and energy at market-based rates. Liberty Power New York and Liberty Power District also requested waiver of various Commission regulations. In particular, Liberty Power New York LLC and Liberty Power District requested that the Commission grant blanket approval under 18 CFR part 34 of all future issuances of securities and assumptions of liability by Liberty Power New York and Liberty Power District.

On December 13, 2005, the Commission granted the request for blanket approval under Part 34, subject to the following:

Any person desiring to be heard or to protest the blanket approval of issuance of securities or assumptions of liability by Liberty Power New York and Liberty Power District should file a motion to intervene or protest with the Federal Energy Regulatory Commission, 888 First Street, NE., Washington, DC 20426, in accordance with Rules 211 and 214 of the Commission's Rules of Practice and Procedure. 18 CFR 385.211, 385.214 (2004).

Notice is hereby given that the deadline for filing motions to intervene or protests is January 12, 2006.

Absent a request to be heard in opposition by the deadline above, Liberty Power New York and Liberty Power District are authorized to issue securities and assume obligations or liabilities as a guarantor, indorser, surety, or otherwise in respect of any security of another person; provided that such issuance or assumption is for some lawful object within the corporate purposes of Liberty Power New York and Liberty Power District, compatible with the public interest, and is reasonably necessary or appropriate for such purposes.

The Commission reserves the right to require a further showing that neither public nor private interests will be adversely affected by continued approval of Liberty Power New York's and Liberty Power District's issuances of securities or assumptions of liability.

Copies of the full text of the Director's Order are available from the Commission's Public Reference Room, 888 First Street, NE., Washington, DC 20426. The Order may also be viewed on the Commission's Web site at http://www.ferc.gov, using the eLibrary link. Enter the docket number excluding the last three digits in the docket number filed to access the document. Comments, protests, and interventions may be filed electronically via the internet in lieu of paper. See, 18 CFR 385.2001(a)(1)(iii) and the instructions on the Commission's Web site under the “e-Filing” link. The Commission strongly encourages electronic filings.

Magalie R. Salas,
Secretary.

[FR Doc. E5-7907 Filed 12-27-05; 8:45 am]

BILLING CODE 6717-01-P